DEPARTMENT OF THE INTERIOR

Fish and Wildlife Service

[FWS-R6-ES-2013-N226; FF06E23000-145-FXES11110600000]

Endangered and Threatened Wildlife and Plants; Permits; Low-Effect Habitat Conservation Plan for the Utah Prairie Dog in Garfield County, Utah

AGENCY: Fish and Wildlife Service, Interior.

ACTION: Notice of availability; request for comments.

SUMMARY: We, the U.S. Fish and Wildlife Service (Service), received a permit application from the Garfield County Commission and are announcing the availability of a Draft Low-effect Habitat Conservation Plan (HCP) for the Utah prairie dog in Garfield County, Utah, for review and comment by the public and Federal, Tribal, State, and local governments. We request comment on the draft low-effect HCP.

DATES: Written comments must be submitted by November 21, 2013.

ADDRESSES: Send written comments by U.S. mail to Laura Romin, Deputy Field Supervisor, Utah Ecological Services Field Office, U.S. Fish and Wildlife Service, 2369 W. Orton Circle, Suite 50, West Valley City, UT 84119, or via email to utahfieldoffice_esa@fws.gov. You also may send comments by facsimile to 801-975-3331. The draft low-effect HCP is available on our Mountain-Prairie Region Ecological Services Web site at http://www.fws.gov/utahfieldoffice/LatestNews.html. You also may review a copy of this document during regular business hours at the Utah Ecological Services Field Office (see address above). If you do not have access to the Web site or cannot visit our office, you may request copies by telephone at 801-975-3330 ext. 142 or by letter to the Utah Field Office.

FOR FURTHER INFORMATION CONTACT: Laura Romin, 801-975-3330, ext. 142; laura_romin@fws.gov.

SUPPLEMENTARY INFORMATION: We announce availability for review and comment of the Draft Low-effect Habitat Conservation Plan for the Utah prairie dog in Garfield County, Utah. The Garfield County Commission has prepared a draft low-effect habitat conservation plan (HCP) for the translocation of Utah prairie dogs away from human developed areas or where construction is occurring in and adjacent to Panguitch, Utah, and that may result in incidental take of the federally threatened Utah prairie dog. The intent of this low-effect HCP is to serve as an interim mechanism to authorize incidental take in the short term while a more comprehensive long-term or range-wide habitat conservation plan is prepared for the species. We request public comment on the draft low-effect HCP.

Section 9 of the Endangered Species Act (ESA) (16 U.S.C. 1538) and its implementing regulations prohibit take of species listed as endangered or threatened. The definition of take under the ESA includes to “harass, harm, pursue, hunt, shoot, wound, kill, trap, capture, or collect listed species or to attempt to engage in such conduct” (16 U.S.C. 1532(19)). Section 10 of the ESA (16 U.S.C. 1539) establishes a program whereby persons seeking to pursue activities that are otherwise legal, but could result in take of federally protected species, may receive an incidental take permit (ITP). Applicants for ITPs must submit a HCP that meets the section 10 permit issuance criteria. “Low-effect” incidental take permits are those permits that, despite their authorization of some small level of incidental take, individually and cumulatively have a minor or negligible effect on the species covered in the HCP.

Background

The USFWS and Iron County began work on a Rangewide HCP (to include Iron, Garfield, and Wayne Counties) in 2006; however, efforts to complete the Rangewide HCP have stalled, due largely to concerns regarding funding mechanisms. Garfield County has committed to proceed with completing a new long-term Garfield County HCP. However, it is likely that completion of a new HCP will require 2-3 years. Therefore, this low-effect HCP will provide a bridge, authorizing incidental take of the Utah prairie dog until a new long-term HCP can be completed.

As a bridge to cover additional take anticipated before a range-wide or long-term plan can be completed, Garfield County has submitted a draft low-effect HCP that would authorize the take of no more than 220 acres (89 hectares) of occupied Utah prairie dog habitat over a maximum 3-year period. Incidental take could occur as a result of (1) translocations of prairie dogs away from the town of Panguitch, Utah, to Federal or other protected lands in Garfield County or (2) ongoing and future residential and commercial development in occupied Utah prairie dog habitat in Panguitch, Utah. Minimization and mitigation measures will include the translocations of Utah prairie dogs to Federal or other protected habitat in Garfield County or the payment of a mitigation fee to a conservation fund for Utah prairie dogs. Under this low-effect HCP, developers would apply to the County for their individual take permits or letters of authorization.

Our Preliminary Determination

We have made a preliminary determination that the HCP qualifies as a “low-effect” habitat conservation plan as defined by our Habitat Conservation Planning Handbook (November 1996).

We base our determination on the following information:

(1) The size and scope of the incidental take of Utah prairie dogs is relatively small, and limited to maximum of 220 ac (89 ha) of Utah prairie dog occupied habitats over three years;

(2) The total amount of take amounts to only 1.4 percent of the total mapped Utah prairie dog habitat in the Paunsaugunt Recovery Unit; and

(3) Most of the take is limited to already developed areas or those areas projected for development in the near future. These areas do not serve to support current or future metapopulations and objectives for recovery of the species in the wild.

Overall we conclude that implementation of the plan would result in overall minor or negligible effects on the Utah prairie dog and its habitats. We may revise this preliminary determination based on public comments submitted in response to this notice.

Public Availability of Comments

Before including your address, phone number, email address, or other personal identifying information in your comment, you should be aware that your entire comment—including your personal identifying information—may be made publicly available at any time. While you can ask us in your comment to withhold your personal identifying information from public review, we cannot guarantee that we will be able to do so.

Dated: September 30, 2013.
Larry Crist,
Field Supervisor, Utah Ecological Services Field Office.

[FR Doc. 2013-24602 Filed 10-21-13; 8:45 am]

BILLING CODE 4310-55-P